DEPARTMENT OF COMMERCE

National Oceanic and Atmospheric Administration

[I.D. 042006D]

Endangered Species; File No. 1576

AGENCY: National Marine Fisheries Service (NMFS), National Oceanic and Atmospheric Administration (NOAA), Commerce.

ACTION: Notice; receipt of application.

SUMMARY: Notice is hereby given that the NMFS, Northeast Fisheries Science Center (NEFSC), 166 Water Street, Woods Hole, MA 02543-1026, has applied in due form for a permit to take loggerhead (Caretta caretta), leatherback (Dermochelys coriacea), Kemp's ridley (Lepidochelys kempii), green (Chelonia mydas), hawksbill (Eretmochelys imbricata), and olive ridley (Lepidochelys olivacea) sea turtles for purposes of scientific research.

DATES: Written, telefaxed, or e-mail comments must be received on or before May 30, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9328; fax (978)281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1576.

FOR FURTHER INFORMATION CONTACT: Patrick Opay or Kate Swails, (301)713-2289.

SUPPLEMENTARY INFORMATION: The subject permit is requested under the authority of the Endangered Species Act of 1973, as amended (ESA; 16 U.S.C. 1531 et seq.) and the regulations governing the taking, importing, and exporting of endangered and threatened species (50 CFR parts 222-226).

The NEFSC proposes to test modifications to scallop dredge gear that may reduce the probability of turtle injuries due to gear interactions. The NEFSC also proposes to opportunistically collect biological information from sea turtles captured in other projects or fisheries to improve NMFS's ability to assess stocks and the impact of anthropogenic activities. The NEFSC would annually capture and/or handle, measure, weigh, flipper tag, passive integrated transponder tag, tissue biopsy, collect parts from, photograph, and release up to 75 loggerhead, 9 leatherback, 26 Kemp's ridley, 10 green, 6 hawksbill, 1 olive ridley, and an additional 6 of any of these species (any combination). The research would occur in the Western Atlantic Ocean (Florida Keys through Maine) and the permit would be issued for 5 years.

Dated: April 24, 2006.
Stephen L. Leathery,
Chief, Permits, Conservation and Education Division, Office of Protected Resources, National Marine Fisheries Service.

[FR Doc. E6-6446 Filed 4-27-06; 8:45 am]

BILLING CODE 3510-22-S